DEPARTMENT OF HEALTH AND HUMAN SERVICES

Administration for Children and Families

Submission for OMB Review; Comment Request

Title: Evaluation to Determine the Effectiveness of the Public Assistance Reporting Information System (PARIS).

OMB No. New Collection.

Description: The PARIS program is a voluntary information exchange system that allows States and other entities (counties or jurisdictions like the District of Columbia) to submit Medical Assistance, Medicaid, Food Stamp, and Temporary Assistance for Needy Families (TANF) participant data to the Administration for Children and Families (ACF) to be matched with Federal and participating States' databases to detect potential dual participation and improper payments. Launched by ACF in 1997, the PARIS project was developed to provide States with usable data by which they could identify and correct erroneous payments and to promote State partnerships and matching of cross-state data to improve program integrity. There are currently 36 entities participating in the PARIS project. (Member States). ACF is encouraging the expansion of PARIS via a grantee program by providing funds to Member States to partner with nonparticipating States to develop the internal organization and mechanisms needed for PARIS participation. An implementation and outcome evaluation of the PARIS program will determine the effectiveness of the program and the resulting impact on reducing improper payments. Data collected will determine factors affecting program participation, relevant PARIS administrative and implementation information, challenges in implementation, cost of program participation and estimated savings through identified and resolved participant matches.

Respondents: Fifteen States and one county will comprise the sample, with a maximum of six respondents from each State or County.

Annual Burden Estimates
Instrument | Number of respondents | Number of responses per respondent | Average burden hours per response | Total burden hours
State-level PARIS Admistrator Survey | 16 | 1 | 1.5 | 24
Medicaid, Food Stamp and TANF Program Officials Key-Informant Interviews | 32 | 1 | 1 | 32
State Cost-Accounting Forms | 13 | 1 | 1.5 | 20
Field Follow-up Staff | 32 | 1 | 1 | 32
State PARIS Technical Staff | 16 | 1 | .5 | 8
Fiscal Administrator Telephone Interviews | 26 | 1 | 1.5 | 39

Estimated Total Annual Burden Hours: 155.

Additional Information: Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T_Astrich@omb.eop.gov.

Dated: June 15, 2006.
Robert Sargis,
Reports Clearance Officer.

[FR Doc. 06-5605 Filed 6-21-06; 8:45 am]

BILLING CODE 4184-01-M